DEPARTMENT OF THE TREASURY

Submission for OMB Review; Comment Request

September 18, 2000.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before October 25, 2000 to be assured of consideration.

Bureau of the Public Debt (PD)

OMB Number: 1535-0048.

Form Number: PD F 0385 and PD F 385-1.

Type of Review: Extension.

Title: Certificate of Identity of Owner of Registered Securities (PD F 0385); and Certificate of Identity of Owner of Savings and Retirement (PD F 0385-1).

Description: The form is used to establish the identity of the owner of U.S. Savings Bonds or Registered Securities.

Respondents: Individuals or households.

Estimated Number of Respondents: 177.

Estimated Burden Hours Per Respondent: 30 minutes.

Frequency of Response: On occasion.

Estimated Total Reporting Burden Hours: 89 hours.

OMB Number: 1535-0058.

Form Number: PD F 1646.

Type of Review: Extension.

Title: Application for Disposition United States Registered Securities and Related Checks Without Administration of Deceased Owner's Estate.

Description: The form is used by person(s) entitled to a decedent's estate not being administered to request disposition of U.S. Registered Securities and related checks.

Respondents: Individuals or households.

Estimated Number of Respondents: 625.

Estimated Burden Hours Per Respondent: 1 hour, 30 minutes.

Frequency of Response: On occasion.

Estimated Total Reporting Burden Hours: 938 hours.

OMB Number: 1535-0063.

Form Number: PD F 4239.

Type of Review: Extension.

Title: Request by Owner or Person Entitled to Payment or Reissue of United States Savings Bonds/Notes Deposited in Safekeeping When Original Custody Receipts Are Not Available.

Description: The form is used by owner or persons entitled to request reissue or payment of U.S. Savings Bonds/Notes deposited in safekeeping when original custody receipts are not available.

Respondents: Individuals or households.

Estimated Number of Respondents: 500.

Estimated Burden Hours Per Respondent: 10 minutes.

Frequency of Response: On occasion.

Estimated Total Reporting Burden Hours: 84 hours.

OMB Number: 1535-0100.

Form Number: PD F 4094.

Type of Review: Extension.

Title: Affidavit by Individual Surety.

Description: The form serves as an affidavit from individuals who agree to act as surety for an indemnification agreement on a Bonds of Indemnity submitted in support of a claim for lost, stolen or destroyed U.S. Registered Securities.

Respondents: Individuals or households.

Estimated Number of Respondents: 500.

Estimated Burden Hours Per Respondent: 55 minutes.

Frequency of Response: On occasion.

Estimated Total Reporting Burden Hours: 460 hours.

OMB Number: 1535-0120.

Form Number: PD F 5366, PD F 5354 and PD F 5367.

Type of Review: Extension.

Title: FHA New Account Request (PD F 5366); FHA Transaction Request (PD F 5354); and FHA Debenture Transfer Request (PD F 5367).

Description: The forms are used to (1) establish a book-entry account; (2) change information on a book-entry account; and (3) transfer ownership of a book-entry account.

Respondents: Individuals or households, Business or other for-profit.

Estimated Number of Respondents: 600.

Estimated Burden Hours Per Respondent: 10 minutes (for each form).

Frequency of Response: On occasion.

Estimated Total Reporting Burden Hours: 102 hours.

Clearance Officer: Vicki S. Thorpe, (304) 480-6553, Bureau of the Public Debt, 200 Third Street, Parkersburg, West VA 26106-1328.

OMB Reviewer: Alexander T. Hunt, (202) 395-7860, Office of Management and Budget, Room 10226, New Executive Office Building, Washington, DC 20503.

Lois K. Holland,
Departmental Reports Management Officer

[FR Doc. 00-24496 Filed 9-22-00; 8:45 am]

BILLING CODE 4810-40-P